DEPARTMENT OF THE INTERIOR

Bureau of Land Management

[MT-040-5101-ER-EO42]

Notice of Intent To Prepare an Environmental Impact Statement for the GCC Dacotah Cement Dewey Conveyor Project

AGENCY: Bureau of Land Management, Interior.

ACTION: Notice of Intent (NOI) to Prepare an Environmental Impact Statement (EIS) and Initiate Public Scoping for the GCC Dacotah Cement Dewey Conveyor Project.

SUMMARY: Pursuant to 42 U.S.C. 4332, the National Environmental Policy Act of 1969, as amended (NEPA), the Bureau of Land Management (BLM) will direct the preparation of an EIS on a project proposed by GCC Dacotah, Inc., and conduct public scoping meetings to analyze (1) The application for right-of-way (ROW) on lands administered in part by the South Dakota Field Office of the BLM, and (2) an application for a special use permit within the Black Hills National Forest of the U.S. Forest Service. The proposed action is to construct, operate, maintain, and terminate approximately 7 miles of an enclosed above-ground conveyor belt to transfer crushed limestone from a quarry site to a rail loading facility near the town of Dewey in Custer County, South Dakota. The proposed conveyor belt would cross about 1.5 miles of National Forest and about 1 mile of BLM-administered public lands. The BLM is the lead agency for this project, and the Forest Service is a cooperating agency with jurisdiction by law.

DATES: This notice initiates the public scoping process for the EIS. The public is invited to submit comments, resource information, and identify issues and concerns to be considered in the NEPA process. The BLM will accept written comments on the scope of the EIS within 60 days of the publication of this notice. Public scoping meetings to obtain comments on issues related to the EIS and the proposed action will be held in Custer and Edgemont, South Dakota, and Newcastle, Wyoming. Times and locations of the scoping meetings will be announced a minimum of 15 days prior to the meetings in the local news media.

ADDRESSES: You may submit comments, identified as “GCC Dacotah Cement Dewey Conveyor Project” by any of the following methods:

• E-mail: MT South Dakota FO@blm.gov—Include GCC Dacotah Cement Transportation Facility in the subject line of the message.

• Fax: 605-892-7015.

• Mail: South Dakota Field Office, 310 Roundup Street, Belle Fourche, SD 57717.

• Hand Delivery/Courier: South Dakota Field Office, 310 Roundup Street, Belle Fourche, SD 57717.

Documents pertinent to this proposal may be examined at the South Dakota Field Office in Belle Fourche during regular business hours from 7:45 a.m. to 4:30 p.m., Monday through Friday, except holidays. Respondents' comments, including their names and street addresses, will also be available for public review, and may be published as part of the EIS.

FOR FURTHER INFORMATION CONTACT: For further information, including information on how to comment, you may contact Marian Atkins, BLM, at 605-892-7001, or marian_atkins@blm.gov.

SUPPLEMENTARY INFORMATION: The EIS will assess the effects of the proposed action to permit a transportation facility on federal lands consisting of construction, operation, maintenance, and abandonment of a covered, above ground conveyor belt up to approximately 7 miles in length for the purpose of transporting crushed limestone from a quarry to a proposed rail load-out facility at Dewey, South Dakota. The analysis area includes BLM-administered public lands, National Forest System lands administered by the Black Hills National Forest, and private lands along the proposed conveyor route in Custer County, South Dakota.

The EIS Process

NEPA requires the BLM to take into account the environmental impacts of its actions.

The EIS will be prepared in accordance with applicable Council on Environmental Quality regulations at 40 CFR parts 1500-1508, and applicable BLM and Forest Service regulations. The analysis will determine whether the proposed action is consistent with land use guidelines as set forth in the BLM RMP and the Forest Service's Revised Forest Plan for the Black Hills National Forest, as Amended, along with other state and federal laws and regulations.

The analysis in the EIS will serve the following two purposes: (1) Analyze the direct, indirect, and cumulative impacts of construction, operation, maintenance, and abandonment of the proposed covered conveyor belt transportation facility; and (2) Disclose the information used by the Responsible Officials in making their decisions on whether to approve or deny the application for a ROW grant.

Preliminary Issues and Alternatives

The following preliminary issues have been identified:

• Native American Concerns.

• Cultural Resources.

• Noise.

• Visual Quality.

• Public Safety.

• Land Use.

• Fish and Wildlife.

• Air Quality.

• Geology, Soils, and Minerals.

• Water Quality and Quantity.

• Vegetation.

• Social and Economic Values.

Alternatives will initially include the No Action Alternatives and the Proposed Action Alternative; however, other alternatives may be identified during the public scoping process.

Public Participation

Comments are being solicited so as to identify and define: (1) The scope of this analysis, (2) significant issues or concerns related to the proposed action, (3) reasonable alternatives to the proposed action, and (4) information having a bearing on the proposed action. Your response is important and will be considered in the EIS process.

The BLM and Forest Service will provide further information at the public scoping meetings regarding the locations of, and the areas that may be affected by, the transportation facility application. The purpose of the public scoping process is to provide the public an opportunity to present comments or issues that should be addressed in the environmental analysis, the scope of the analysis and reasonable alternatives to the proposed action. You may submit comments in writing at any public scoping meeting, or you may submit them using one of the methods listed in the ADDRESSES section above.

Before including your address, phone number, e-mail address, or other personal identifying information in your comment, you should be aware that your entire comment—including your personal identifying information—may be made publicly available at any time. While you can ask us in your comment to withhold your personal identifying information from public review, we cannot guarantee that we will be able to do so. All submissions from organizations and businesses, and from individuals identifying themselves as representatives or officials of organizations or businesses, will be available for public inspection in their entirety.

Responsible Officials: Marian Atkins, Field Manager, South Dakota Field Office, BLM, will be responsible for the analysis and documentation, and will decide whether to approve any actions on public lands administered by the BLM. Craig Bobzien, Forest Supervisor, Black Hills National Forest, representing the Forest Service as a cooperating agency, will decide whether to approve any actions on National Forest System lands in the project area.

Dated: September 24, 2007.
Gene R. Terland,
State Director, Montana State Office.

[FR Doc. E7-19406 Filed 10-1-07; 8:45 am]

BILLING CODE 1430-$$-P